DEPARTMENT OF COMMERCE

International Trade Administration

Notice of Scope Rulings

AGENCY: Import Administration, International Trade Administration, Department of Commerce.

EFFECTIVE DATE: May 3, 2006.

SUMMARY: The Department of Commerce (the Department) hereby publishes a list of scope rulings completed between January 1, 2006, and March 31, 2006. In conjunction with this list, the Department is also publishing a list of requests for scope rulings and anticircumvention determinations pending as of March 31, 2006. We intend to publish future lists after the close of the next calendar quarter.

FOR FURTHER INFORMATION CONTACT: Alice Gibbons, AD/CVD Operations, Office 2, Import Administration, International Trade Administration, U.S. Department of Commerce, 14th Street and Constitution Avenue, NW., Washington, DC 20230; telephone: (202) 482-0498.

SUPPLEMENTARY INFORMATION:

Background

The Department's regulations provide that the Secretary will publish in the Federal Register a list of scope rulings on a quarterly basis. See 19 CFR 351.225(o). Our most recent “Notice of Scope Rulings” was published on February 2, 2006. See 71 FR 5646. The instant notice covers all scope rulings and anticircumvention determinations completed by Import Administration between January 1, 2006, and March 31, 2006, inclusive. It also lists any scope or anticircumvention inquiries pending as of March 31, 2006, as well as scope rulings inadvertently omitted from prior published lists. As described below, subsequent lists will follow after the close of each calendar quarter.

Scope Rulings Completed Between January 1, 2006 and March 31, 2006:

Canada

A-122-838, C-122-839: Certain Softwood Lumber Products from Canada

Requestor: Coalition for Fair Lumber Imports Executive Committee; lumber products meeting the written description of the merchandise that may be entering under HTSUS 4409.10.05, including products continually shaped along the ends are within the scope of the orders; March 3, 2006

People's Republic of China

A-570-504: Petroleum Wax Candles from the People's Republic of China

Requestor: Eighteen Karat International Product Sourcing, Inc.; its 12 “orchid” candles are not included within the scope of the antidumping duty order; January 10, 2006.

A-570-504: Petroleum Wax Candles from the People's Republic of China

Requestor: Kohl's Department Stores, Inc.; its chicken shaped candle is not included within the scope of the antidumping duty order; January 10, 2006.

A-570-504: Petroleum Wax Candles from the People's Republic of China

Requestor: Design Ideas, Ltd.; its “Lounge Light” petroleum wax candles equipped with a color-changing light emitting diode (LED) and battery, and manufactured in the People's Republic of China (PRC), are within the scope of the antidumping duty order, and its “Lumanae” petroleum wax candles equipped with a color-changing LED and battery, and manufactured in Malaysia, are not included within the scope of the antidumping duty order; March 21, 2006.

A-570-891: Hand Trucks and Certain Parts Thereof from the People's Republic of China

Requestor: Central Purchasing, LLC.; an accessory cart that is specifically designed to fit and carry a “Breaker Hammer,” and is imported separately from the Breaker Hammer, is not included within the scope of the antidumping duty order; February 1, 2006.

A-570-891: Hand Trucks and Certain Parts Thereof from the People's Republic of China

Requestor: Central Purchasing, LLC.; its two “welding carts” are not included within the scope of the antidumping duty order; February 15, 2006.

A-570-891: Hand Trucks and Certain Parts Thereof from the People's Republic of China

Requestor: Vertex International, Inc.; certain components of its Garden Cart, if imported separately, are not included within the scope of the order; March 8, 2006.

Anticircumvention Determinations Completed Between January 1, 2006 and March 31, 2006:

None.

Anticircumvention Inquiries Terminated Between January 1, 2006 and March 31, 2006:

None.

Scope Inquiries Terminated Between January 1, 2006 and March 31, 2006:

People's Republic of China

A-570-890: Wooden Bedroom Furniture from the People's Republic of China

Requestor: Cape Craftsmen; whether various cabinets/commodes are within the scope of the antidumping duty order; requested October 28, 2005; terminated February 10, 2006.

A-570-890: Wooden Bedroom Furniture from the People's Republic of China

Requestor: L. Powell Company; whether certain jewelry armoires without felt or felt-like lining on the door are within the scope of the antidumping duty order; requested November 30, 2005; terminated January 31, 2006.

A-570-890: Wooden Bedroom Furniture from the People's Republic of China

Requestor: Whitewood Industries; whether certain wooden jewelry armoires lined with felt of felt-like material are within the scope of the antidumping duty order; requested December 5, 2005; terminated February 10, 2006.

Scope Inquiries Pending as of March 31, 2006:

Canada

A-122-838, C-122-839: Certain Softwood Lumber Products from Canada

Requestor: Montana Reclaimed Lumber Co.; whether antique softwood lumber reclaimed from demolition projects are within the scope of the orders; requested January 10, 2006.

Italy

A-475-059: Pressure Sensitive Plastic Tape from Italy

Requestor: Ritrama, Inc.; whether certain varieties of plastic tape are within the scope of the antidumping duty order; requested December 13, 2005; initiated January 30, 2006.

People's Republic of China

A-570-803: Heavy Forged Hand Tools, Finished or Unfinished, With or Without Handles, from the People's Republic of China

Requestor: Central Purchasing, LLC; whether its gooseneck claw wrecking bar is within the scope of the bars and wedges antidumping duty order; requested March 13, 2006.

A-570-832: Pure Magnesium from the People's Republic of China

Requestor: U.S. Magnesium LLC; whether pure and alloy magnesium processed in Canada, France, or any third country and exported to the United States using pure magnesium ingots originally produced in the PRC is within the scope of the antidumping duty order; requested July 19, 2005; initiated September 2, 2005.

A-570-868: Folding Metal Tables and Chairs from the People's Republic of China

Requestor: Mac Industries (Shanghai) Co., Ltd., Jiaxing Yinmao International Treading Co., Ltd., and Fujian Zenithen Consumer Products Co., Ltd.; whether their “moon chair” is within the scope of the antidumping duty order; requested August 18, 2005; initiated November 29, 2005.

A-570-878: Saccharin from the People's Republic of China

Requestor: PMC Specialities Group, Inc.; whether certain saccharin products originating in the PRC and further-processed in Israel are within the scope of the antidumping duty order; requested August 12, 2005; initiated October 26, 2005.

A-570-890: Wooden Bedroom Furniture from the People's Republic of China

Requestor: Dorel Asia; whether infant (baby) changing tables and toddler beds are within the scope of the antidumping duty order; requested February 15, 2005; initiated November 14, 2005.

A-570-891: Hand Trucks and Certain Parts Thereof from the People's Republic of China

Requestor: Gleason Industrial Products, Inc. and Precision Products, Inc.; whether the “Black and Decker Workmate 525” and “Black and Decker Workmate 500” are within the scope of the antidumping duty order; requested February 7, 2006.

A-570-896: Magnesium Metal from the People's Republic of China

Requestor: U.S. Magnesium LLC; whether pure and alloy magnesium processed in Canada, France, or any third country, and exported to the United States using pure magnesium ingots originally produced in the PRC, is within the scope of the antidumping duty order; requested July 19, 2005; initiated September 2, 2005.

Vietnam

A-552-801: Certain Frozen Fish Fillets From the Socialist Republic of Vietnam

Requestor: Piazza Seafood World LLC; whether certain basa and tra fillets from Cambodia which are a product of Vietnam are not included within the antidumping duty order; requested May 12, 2004; initiated October 22, 2004.

Anticircumvention Inquiries Pending as of March 31, 2006:

People's Republic of China

A-570-504: Petroleum Wax Candles from the People's Republic of China

Requestor: National Candle Association; whether imports of palm and vegetable-based wax candles from the PRC can be considered later-developed merchandise which is now circumventing the antidumping duty order; requested October 8, 2004; initiated February 25, 2005.

A-570-504: Petroleum Wax Candles from the People's Republic of China

Requestor: National Candle Association; whether imports of palm and vegetable-based wax candles from the PRC can be considered a minor alteration to the subject merchandise for purposes of circumventing the antidumping duty order; requested October 12, 2004; initiated February 25, 2005.

A-570-504: Petroleum Wax Candles from the People's Republic of China

Requestor: National Candle Association; whether imports of candles from the PRC without wicks, into which wicks are then inserted after importation, can be considered “merchandise completed or assembled in the United States” and are circumventing the antidumping duty order; requested December 14, 2005.

A-570-868: Folding Metal Tables and Chairs from the People's Republic of China

Requestor: Meco Corporation; whether adding a cross-brace to folding metal tables from the PRC to join two legs into pairs can be considered minor alterations to merchandise, which is now circumventing the antidumping duty order (the scope defines the legs of folding metal tables as “legs that mechanically fold independently of one another”); requested October 31, 2005.

Vietnam

A-552-801: Certain Frozen Fish Fillets From the Socialist Republic of Vietnam

Requestor: Catfish Farmers of America and certain individual U.S. catfish processors; whether imports of frozen fish fillets from Cambodia made from live fish sourced from Vietnam, and falling within the scope of the order, can be considered “merchandise completed or assembled in other foreign countries” and are circumventing the antidumping duty order; requested August 20, 2004; initiated October 22, 2004.

Scope Rulings Inadvertently Omitted from Prior Published Lists:

None.

Interested parties are invited to comment on the completeness of this list of pending scope and anticircumvention inquiries. Any comments should be submitted to the Deputy Assistant Secretary for AD/CVD Operations, Import Administration, International Trade Administration, 14th Street and Constitution Avenue, NW., Room 1870, Washington, DC 20230.

This notice is published in accordance with 19 CFR 351.225(o).

Dated: April 27, 2006.
Stephen J. Claeys,
Deputy Assistant Secretary for Import Administration.

[FR Doc. E6-6673 Filed 5-2-06; 8:45 am]

BILLING CODE 3510-DS-S